DEPARTMENT OF THE INTERIOR

Minerals Management Service

30 CFR Chapter II

Review of Existing Regulations

AGENCY: Minerals Management Service, Interior.

ACTION: Extension of comment period.

SUMMARY: The Minerals Management Service (MMS) hereby gives notice that it is extending the public comment period on a document reviewing our existing regulations, which was published in the Federal Register on December 26, 2000 (65 FR 81465). The document requests comments on regulations that could be more performance based, or on regulations that should be eliminated or revised. We also gave a status update on actions by MMS regarding comments previously received on our regulations. MMS will grant a 30-day extension until March 28, 2001.

DATES: Written comments must be received by March 28, 2001.

ADDRESSES: Mail written comments to Department of the Interior; Minerals Management Service; Mail Stop 4230; 1849 C Street NW; Washington DC 20240; Attention: Elizabeth Montgomery, MMS Regulatory Coordinator, Policy and Management Improvement.

FOR FURTHER INFORMATION CONTACT: Elizabeth Montgomery, Policy and Management Improvement, telephone: (202) 208-3976; Fax: (202) 208-4891; and E-Mail: Elizabeth.Montgomery@mms.gov.

SUPPLEMENTARY INFORMATION: MMS was asked to extend the deadline for submitting comments on the document, “Review of Existing Regulations, Request for Comment.” The requester indicated that more time was needed to comment due to the change of Administration. We believe the extension of time until March 28, 2001, will give the public sufficient time to comment on our existing regulations and on the actions we have taken in response to past comments and enacted legislation.

Dated: February 14, 2001.
George Triebsch,
Chief, Washington Division, Policy and Management Improvement.

[FR Doc. 01-4436 Filed 2-22-01; 8:45 am]

BILLING CODE 4310-MR-P